DEPARTMENT OF AGRICULTURE

Animal and Plant Health Inspection Service

7 CFR Part 354

[Docket No. APHIS-2013-0021]

RIN 0579-AD77

User Fees for Agricultural Quarantine and Inspection Services

AGENCY: Animal and Plant Health Inspection Service, USDA.

ACTION: Proposed rule; reopening of comment period.

SUMMARY: We are reopening the comment period for our proposed rule to amend the user fee regulations by adding new fee categories and adjusting current fees charged for certain agricultural quarantine and inspection services that are provided in connection with certain commercial vessels, commercial trucks, commercial railroad cars, commercial aircraft, and international passengers arriving at ports in the customs territory of the United States. This action will allow interested persons additional time to prepare and submit comments.

DATES: The comment period for the proposed rule published April 25, 2014 (79 FR 22895) is reopened. We will consider all comments that we receive on or before July 24, 2014.

ADDRESSES: You may submit comments by either of the following methods:

• Federal eRulemaking Portal: Go to http://www.regulations.gov/#!docketDetail;D=APHIS-2013-0021.

• Postal Mail/Commercial Delivery: Send your comment to Docket No. APHIS-2013-0021, Regulatory Analysis and Development, PPD, APHIS, Station 3A-03.8, 4700 River Road, Unit 118, Riverdale, MD 20737-1238.

Supporting documents and any comments we receive on this docket may be viewed at http://www.regulations.gov/#!docketDetail;D=APHIS-2013-0021 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information concerning program operations, contact Mr. William E. Thomas, AQI Coordinator, PPQ, APHIS, 4700 River Road, Unit 131, Riverdale, MD 20737-1231; (301) 851-2306. For information concerning rate development, contact Mrs. Kris Caraher, Chief, Review and Analysis Branch, FMD, MRPBS, APHIS, 4700 River Road, Unit 55, Riverdale, MD 20737; (301) 851-2852.

SUPPLEMENTARY INFORMATION: On April 25, 2014, we published in the Federal Register (79 FR 22895-22908, Docket No. APHIS-2013-0021) a proposal to amend the user fee regulations by adding new fee categories and adjusting current fees charged for certain agricultural quarantine and inspection services that are provided in connection with certain commercial vessels, commercial trucks, commercial railroad cars, commercial aircraft, and international passengers arriving at ports in the customs territory of the United States. We also proposed to adjust or remove the fee caps associated with commercial trucks, commercial vessels, and commercial railcars.

Comments on the proposed rule were required to be received on or before June 24, 2014. We are reopening the comment period on Docket No. APHIS-2013-0021 for an additional 30 days. This action will allow interested persons additional time to prepare and submit comments. We will also consider all comments received between June 25, 2014 (the day after the close of the original comment period) and the date of this notice.

Authority: 7 U.S.C. 7701-7772, 7781-7786, and 8301-8317; 21 U.S.C. 136 and 136a; 49 U.S.C. 80503; 7 CFR 2.22, 2.80, and 371.3.

Done in Washington, DC, this 26th day of June 2014.
Michael C. Gregoire,
Acting Administrator, Animal and Plant Health Inspection Service.

[FR Doc. 2014-15480 Filed 6-30-14; 8:45 am]

BILLING CODE 3410-34-P